DEPARTMENT OF AGRICULTURE

Federal Crop Insurance Corporation

Funding Opportunity Title: Community Outreach and Assistance Partnership Program; Initial Announcement

Catalogue of Federal Domestic Assistance (CFDA): This program is listed in the CFDA under 10-455, Community Outreach and Assistance Partnership Program.

DATES: Closing Date: The closing date and time for receipt of applications under this RFA is 5 p.m. eastern time on July 8, 2004. Applications received after the deadline will not be considered for funding.

SUMMARY: In accordance with section 522(d) of the Federal Crop Insurance Act (Act), the Federal Crop Insurance Corporation (FCIC), operating through the Risk Management Agency (RMA), announces the availability of up to approximately $4 million in fiscal year (FY) 2004 for collaborative outreach and assistance programs for women, limited resource, socially disadvantaged and other traditionally under-served farmers and ranchers, who produce agricultural commodities covered by the noninsured crop disaster assistance program (7 U.S.C. 7333); specialty crops; and under served commodities (For purposes of this announcement, these commodities are collectively referred to as “Priority Commodities”). Awards under this program will be made on a competitive basis for projects of up to one year. Recipients of awards must demonstrate non-financial benefits from a partnership agreement and must agree to the substantial involvement of RMA in the project. This announcement lists the information needed to submit an application under this program.

Funding availability for this program may be announced at approximately the same time as funding availability for similar but separate program, CFDA No. 457, “Commodity Partnerships for Risk Management Education,” CFDA No. 10-458, “Targeted States Program,” and CFDA No. 10456, “Risk Management Research Partnerships”. These programs have some similarities, but also key differences. The differences stem from important features of each program's authorizing legislation and different RMA objectives. Applicants should carefully examine and compare the unique requirements in the notices for each program.

Available Funding: The amount of funds available in FY 2004 for support of this program is up to approximately 4 million dollars. No maximum or minimum funding levels have been established for individual projects or geographic locations.

Eligible Applicants: Eligible Applicants include educational institutions, community based organizations, associations of farmers, ranchers and other nonprofit organizations with demonstrated capabilities in developing and implementing risk management and other marketing options for priority commodities. Individuals are not eligible applicants.

Address for Submission of Application: Applicants are strongly encouraged to submit completed and signed application packages using overnight mail or delivery service to ensure timely receipt by the USDA/RMA. The applicable address for such submissions is: USDA-RMA, Community Outreach and Assistance Partnership Program, c/o Marie Buchanan, 1400 Independence Avenue, SW., Room 6709, Stop 0805, Washington, DC 20250-0805. Completed and signed application packages sent via the U.S. Postal Service must be sent to the above address. Applicants using the U.S. Postal Service should allow for extra security-processing time for mail delivered to government offices.

FOR FURTHER INFORMATION CONTACT: Applicants and other interested parties are encouraged to contact: Marie Buchanan, National Outreach Program Manager, Telephone (202) 690-2686, Facsimile (202) 690-1518, E-mail: Marie.Buchanan@rma.usda.gov. for information and to request an application package.

Application materials can also be downloaded from the RMA Web site at http://www:rma.usda.gov. Application materials are also available at Grants.gov. To access materials go to www.grants.gov. Click on “Find Grant Opportunities.” Click on “Search Grant Synopses.” And enter “10-455” to search by CFDA Number. From the search results, select “Community Outreach and Assistance Partnership Program” to access this RFA and forms for this program.

SUPPLEMENTARY INFORMATION: This announcement consists of seven parts:

Part I—Funding Opportunity

A. Legislative Authority and Background

B. Project Goal

C. Purpose and Priorities

D. Definition of Priority Commodities

E. Program Description

F. Other Activities

Part II—Award Information

A. Available Funding

B. Types of Applications

Part III—Eligibility Information

A. Eligible Applicants

B. Non-financial Benefits

C. Project Period

D. Cost Sharing or Matching

E. Funding Restrictions

Part IV—Application and Submission Information

A. Address to Request Application Package

B. Content and Form of Application

C. Submission of Applications

D. Acknowledgement of Applications

Part V—Review Process

A. General

B. Evaluation Criteria and Weights

Part VI—Award Administration

A. Notification of Award

B. Access to Panel Review Information

C. Confidential Aspects of Proposals and Awards

D. Reporting Requirements

E. Audit Requirements

F. Prohibitions and Requirements Regarding Lobbying

G. Applicable OMB Circulars

H. Confidentiality

I. Civil Rights Training

Part VII—Additional Information

A. Requirements to Use Program Logo

B. Requirement to Provide Project Information to an RMA representative

C. Private Crop Insurance Organizations and Potential Conflicts of Interest

D. Required Registration for Electronic Submission of Proposals

E. Dun and Bradstreet (D&B Data Universal Numbering System)

Part I —Funding Opportunity Description

A. Legislative Authority and Background

This program is authorized under section 522(d)(3)(F) of the Federal Crop Insurance Act (Act) RMA promotes and regulates sound risk management solutions to improve the economic stability of American agriculture. On behalf of FCIC, RMA does this by offering Federal crop insurance products through a network of private-sector partners, overseeing the creation of new risk management products, seeking enhancements in existing products, ensuring the integrity of crop insurance program, offering outreach programs aimed at equal access and participation of underserved communities, and providing risk management education and information.

One of RMA's four strategic goals is to ensure that its customers and potential customers are well informed of the risk management solutions available. This goal is supported by section 522(d)(3)(F) of the Act, which authorizes FCIC funding for risk management training and informational efforts for agricultural producers through the formation of partnerships with public and private organizations. With respect to such partnerships, a priority is to be given to producers of Priority Commodities (as specified in subsection D of this section).

B. Project Goal

The goal of this program is to ensure that “ * * * producers will be better able to use financial management, crop insurance, marketing contracts, and other existing and emerging risk management tools.”

C. Purpose and Priorities

The purpose of the Community Outreach and Assistance Partnership Program is to ensure that women, limited resource, socially disadvantaged, and other traditionally underserved producers of priority commodities are provided information and training necessary to use financial management, crop insurance, marketing contracts, and other existing and emerging risk management tools. Each partnership agreement awarded through this program will provide the applicant with funds, guidance, and the substantial involvement of RMA to carry out a risk management education and information program for producers in a specific geographical area.

D. Definition of Priority Commodities

For purposes of this program, Priority Commodities are defined as:

• Agricultural commodities covered by (7 U.S.C. 7333). Commodities in this group are commercial crops that are not covered by catastrophic risk protection crop insurance, are used for food or fiber (except livestock), and specifically include, but are not limited to, floricultural, ornamental nursery, Christmas trees, turf grass sod, aquaculture (including ornamental fish), and industrial crops.

• Specialty crops. Commodities in this group may or may not be covered under a Federal crop insurance plan and include, but are not limited to, fruits, vegetables, tree nuts, syrups, honey, roots, herbs, and highly specialized varieties of traditional crops.

• Underserved commodities. This group includes: (a) Commodities, including livestock, that are covered by a Federal crop insurance plan but for which participation in an area is below the national average; and (b) commodities, including livestock, with inadequate crop insurance coverage produced by small, limited resource, socially disadvantaged, or beginning farmers and ranchers.

A project is considered as giving priority to Priority Commodities if the majority of the educational activities of the project are directed to producers of any of the three classes of commodities listed above or any combination of the three classes.

E. Program Description

In conducting activities to achieve the purpose and goal of this program, the award recipient will be responsible for the activities listed below: FCIC working through RMA will be substantially involved in the activities listed under RMA activities below.

Award recipients will be required to:

1. Finalize a detailed Statement of Work as part of the Delivery Plan. The Statement of Work must describe the manner in which various tasks for the project will be completed, the dates by which each task will be completed and the individuals or organizations that will have responsibility for each task. Task milestones must be listed to ensure that progress can be measured at various stages throughout the life of the project. The plan must also provide for the substantial involvement of RMA in the project. All partnership agreements resulting from this announcement will include a Statement of Work in the table format shown in the Appendix to this announcement. All applicants are strongly encouraged to refer to this table when preparing a Statement of Work and to use this format as part of the application narrative.

2. Assemble risk management instructional materials appropriate for targeted producers to be used in delivering education and information. This will include: (a) Gathering existing instructional materials that meet the local needs of agricultural producers of agricultural commodities; (b) identifying gaps in existing instructional materials; and (c) developing new materials or modifying existing instructional materials to fill existing gaps.

3. Develop and conduct a promotional program. This program will include activities using media, newsletters, publications, or other informational dissemination techniques that are designed to: (a) Raise awareness for risk management; (b) inform producers of the availability of risk management tools; and (c) inform producers of the training and informational opportunities being offered.

4. Deliver risk management training and informational opportunities to agricultural producers and agribusiness professionals. This will include organizing and delivering educational activities using the instructional materials identified earlier. Activities should be directed primarily to agricultural producers, but may include those agribusiness professionals that have frequent opportunities to advise farmers on risk management.

5. Document all outreach/educational activities conducted under the partnership agreement and the results of such activities, including criteria and indicators used to evaluate the success of the program. The recipient will also be required to provide information to an RMA-selected contractor to evaluate all educational activities and advise RMA as to the effectiveness of activities. This requirement also includes providing RMA with demographic data on program participants.

RMA will be responsible for:

1. Review and approve in advance the recipient's project delivery plan and Statement of Work.

2. Collaborate with the recipient in assembling risk management materials for producers. This will include: (a) Reviewing and approving in advance all educational materials for technical accuracy; (b) serving on curriculum development workgroups; (c) providing curriculum developers with fact sheets and other risk management publications that have been prepared by RMA; (d) advising the recipient on the materials available over the internet through the AgRisk Education Library; (e) advising the recipient on technical issues related to crop insurance instructional materials; and (f) advising the recipient on the use of the standardized design and layout formats to be used on program materials.

3. Collaborate with the recipient on a promotional program for raising awareness for risk management and for informing producers of training and informational opportunities. This will include: (a) Reviewing and approving in advance all promotional plans, materials, and programs; (b) serving on workgroups that plan promotional programs; (c) advising the recipient on technical issues relating to the presentation of crop insurance products in promotional materials; and (d) participating, as appropriate, in media programs designed to raise general awareness or provide farmers with risk management education.

4. Collaborate with the recipient on the delivery of education to agricultural producers and agribusiness leaders. This will include: (a) Reviewing and approving in advance all producer and agribusiness educational delivery plans; (b) advising the recipient on technical issues related to the delivery of crop insurance education and information; and (c) assisting the recipient in informing crop insurance professionals about educational plans and scheduled meetings.

5. Reviewing and approving recipient's documentation of risk management educational activities.

6. Collect demographic data on program participants from recipients.

F. Other Activities

In addition to the specific, required activities listed above, the applicant may suggest other activities that would contribute directly to the purpose of this program. For any additional activity suggested, the applicant should identify the objective of the activity, the specific tasks required to meet the objective, specific time lines for performing the tasks, and specific responsibilities of the partners. The applicant must also identify specific ways in which RMA could have substantial involvement in the proposed outreach and educational activity.

Part II—Award Information

A. Available Funding

The amount of funds available in FY 2004 for support of this program is up to approximately 4 million dollars. There is no commitment by USDA/RMA to fund any particular project or to make a specific number of awards. Applicants awarded a partnership agreement for an amount that is less than the amount requested may be required to modify their application to conform to the reduced amount before execution of the partnership agreement. No maximum or minimum funding levels have been established for individual projects or geographic locations. It is expected that the awards will be made approximately 75 days after the application deadline. All awards will be made and agreements completed no later than September 30, 2004.

B. Types of Applications

Applicants must specify whether their application is a new, renewal, or resubmitted application and provide the required information in accordance with the following:

New Applications—This is a project application that has not been previously submitted to the RMA Outreach Program. All new applications will be reviewed competitively using the selection process and evaluation criteria described in this RFA.

Renewal Applications—This is a project proposal that requests additional funding for a project beyond the period that was approved in an original or amended award. Applications for renewed funding must contain the same information as required for new applications, and additionally must contain a current Progress Report. Renewal applications received by the relevant due dates, will be evaluated in competition with other pending applications, and will be reviewed according to the same evaluation criteria as new applications.

Resubmitted Applications—This is a proposal that was previously submitted to the RMA Outreach office, but was not funded. Resubmitted proposals received by the relevant due dates, will be evaluated in competition with other pending applications, and will be reviewed according to the same evaluation criteria as new applications.

Part III—Eligibility Information

A. Eligible Applicants

Eligible applicants include educational institutions, community based organizations, associations of farmers, ranchers and other nonprofit organizations with demonstrated capabilities in developing and implementing risk management and other marketing options for priority commodities. Individuals are not eligible applicants. Applicants are encouraged to form partnerships with other entities that complement, enhance and/or increase the effectiveness and efficiency of the proposed project. Although an applicant may be eligible to compete for an award based on its status as an eligible entity, other factors may exclude an applicant from receiving Federal assistance under this program (e.g., debarment and suspension; a determination of non-performance on a prior contract, cooperative agreement, grant or partnership; a determination of a violation of applicable ethical standards).

B. Non-financial Benefits

To be eligible, applicants must also be able to demonstrate that they will receive a non-financial benefit as a result of a partnership agreement. Non-financial benefits must accrue to the applicant and must include more than the ability to provide employment income to the applicant or for the applicant's employees or the community. The applicant must demonstrate that performance under the partnership agreement will further the specific mission of the applicant (such as providing research or activities necessary for graduate or other students to complete their educational program.

C. Project Period

Each project will be funded for a period of up to one year from the project starting date for the activities described in this announcement.

D. Cost Sharing or Matching

A 10 percent match of the total award amount is required from non-federal funds in the form of cash or in kind contributions.

E. Funding Restrictions

Partnership agreement funds may not be used to:

1. Plan, repair, rehabilitate, acquire, or construct a building or facility including a processing facility;

2. To purchase, rent, or install fixed equipment;

3. Repair or maintain privately owned vehicles;

4. Pay for the preparation of the partnership application;

5. Fund political activities;

6. Pay costs incurred prior to receiving this partnership agreement;

7. Fund any activities prohibited in 7 CFR parts 3015 and 3019, as applicable.

Part IV—Application and Submission Information

A. Address To Request Application Package

Program application materials under this announcement may be downloaded from the RMA Web site at: www.rma.usda.gov. Applicants may also request application materials from: Marie Buchanan, Telephone (202) 690-2686, Facsimile (202) 690-2496, E-mail: Marie.Buchanan@usda.gov.

B. Content and Form of Application

A complete and valid application package must include an original, two paper copies, and one electronic copy (Microsoft Word format preferred) of the application package on diskette or compact disc. Submission of Standard Forms is not required to be submitted electronically on a diskette or compact disc. Hard copies are required. A complete application package must include the following documents in the order indicated

1. A completed and signed OMB Standard Form 424, “Application for Federal Assistance.”

2. A completed and signed OMB Standard Form 424-A, “Budget Information—Non-construction Programs.” Indirect costs allowed for projects submitted under this announcement will be limited to 10 percent of the total direct cost of the partnership or cooperative agreement.

Indicate the total amount (both cash and non-cash) of non-Federal cost-sharing or matching support that will be available to the proposed project. A 10 percent match of the total award amount is required from non-federal funds in the form of cash or in kind contributions. Reasonable travel expenses to attend a two-day Project Directors Meeting and mandatory Civil Rights training sponsored by RMA may be included in the requested budget.

3. Budget Narrative. The applicant should provide a budget narrative to accompany SF 424A, which provides details and explanations regarding individual cost items that are itemized on the form. All budget categories must be individually listed (with costs) in the same order as the budget and justified on a separate sheet of paper and placed immediately behind the SF-424A. There must be a detailed breakdown of all costs, including indirect costs, and costs for each subcontract. A narrative for each line item explaining both Federal and cost-sharing/matching funds and detailing how each line item was derived. Also provide a brief narrative description of any costs that may require explanation (i.e., why a specific costs may be higher than market costs). Only items or services that are necessary for the successful completion of the project will be funded as permitted under the Act, the applicable Federal cost principles, and are not prohibited under any other Federal statute. Salaries of project personnel should be requested in proportion to the effort that they would devote to the project. Identify the source, the amount, and the nature (cash or third-party in-kind contribution) of the required 10 percent matching funds.

4. A completed and signed OMB Standard Form 424-B—“Assurances, Non-constructive Programs.”

5. “Statement of Non-financial Benefits.” (Refer to Part III (B) “Non-financial Benefits”)

6. A Narrative Title Page. This single page can provide: (a) The name of the project; (b) the name of the program; (c) the specific State or area for which the project will be directed; (d) the organization submitting the application; (e) a listing of project partners; (f) a brief project summary; and (g) information needed to contact the project's leader, including an e-mail address.

7. A written narrative (limited to twenty-five single-sided pages) that describes the outreach project in detail, including the program delivery plan and State of Work. The narrative should provide reviewers with sufficient information to effectively evaluate the merits of the application under the criteria contained in Part V. In preparing narratives, applicants are strongly encouraged to carefully review and understand the specific features and authorities governing the specific program for which funds are being requested, as described in this announcement. The narrative should include the circumstances giving rise to the proposed activity; a clear, concise statement of the objectives; the steps necessary to implement the program to attain the objectives; an evaluation plan for the activities; and a program delivery plan and Statement of Work that describes how the activities will be managed by the applicant.

The Statement of Work should identify each objective and the key tasks to achieve the objective, the entity responsible for the task, the completion date, the task location, and RMA's role. All partnerships resulting from this announcement are required to have Statements of Work prepared in the table format shown in the appendix to this announcement. Therefore, applicants are strongly encouraged to refer to this table when preparing a delivery plan and to use this table format in that portion of the application narrative that addresses the delivery plan.

8. An appendix containing exhibits that the applicant believes will directly support the information provided in the narrative (Optional).

9. Progress Report—Required for Renewal Applications Only. See Part II (B) “Types of Applications”.

10. A completed and signed OMB Standard Form LLL, “Disclosure of Lobbying Activities.”

11. A completed and signed AD-1047, “Certification Regarding Debarment, Suspension and Other Responsibility Matters (Primary Covered Transactions).”

12. A completed and signed AD-1049, “Certification Regarding Drug-Free Workplace.”

13. Current and Pending Support—All applications must contain a Current and Pending Support Form listing other current public or private support. Concurrent submission of identical or similar applications to the possible sponsors will not prejudice application review or evaluation by the RMA. However, an application that duplicates or overlaps substantially with an application already reviewed and funded (or to be funded) by another organization or agency will not be funded under this program.

C. Submission of Applications

1. An original and two paper copies of the completed and signed application, and one electronic copy (Microsoft Word format preferred) on diskette or compact disc must be submitted in one package at the time of initial submission.

2. All applications must be received by the deadline. Applications that do not meet all the requirements in this announcement are considered as late applications. Late or incomplete applications will not be considered and will be returned to the applicant.

3. Applications submitted through express, overnight mail or another delivery service will be considered as meeting the announced deadline if they are received in the mailroom at the address stated above for express, overnight mail or another delivery service on or before the deadline. Applicants are cautioned that express, overnight mail or other delivery services do not always deliver as agreed. Applicants should take this into account because failure of such delivery services will not extend the deadline. The address must appear on the envelope or package containing the application with the note “Attention: Community Outreach and Assistance Partnership Program.” Mailed applications will be considered as meeting the announced deadline if they are received on or before the deadline in the mailroom at the address stated above for mailed applications. Applicants are responsible for mailing applications well in advance, to ensure that applications are received on or before the deadline time and date. Applicants using the U.S. Postal Service should allow for the extra time for delivery due to the additional security measures that mail delivered to government offices in the Washington, DC area now requires.

RMA cannot accommodate transmissions of applications by facsimile or through other electronic media. Therefore, applications transmitted electronically will not be accepted regardless of the date or time of submission or the time of receipt. The deadline for receipt of an application is 5 p.m. Eastern Time on (insert 45 days from the date of publication in Federal Register). The application deadline is firm as to date and hour and applies to submission of the original application and two copies.

D. Acknowledgement of Applications

Receipt of applications will be acknowledged by e-mail, whenever possible. Therefore, applicants are encouraged to provide an e-mail addresses in the application. If an e-mail address is not indicated on an application, letter will acknowledge receipt. There will be no notification of incomplete, unqualified or unfunded applications until the awards have been made.

When received by RMA, applications will be assigned an identification number. This number will be communicated to applicants in the acknowledgement of receipt of applications. An application's identification number should be referenced in all correspondence regarding the application. If the applicant does not receive an acknowledgement within 15 days of the submission deadline, the applicant should contact Marie Buchanan at (202) 690-2686 or electronically at Marie.Buchanan@rma.usda.gov.

Part V—Review Process

A. General

Each application will be evaluated using a two-part process. First, RMA personnel will screen each application to ensure that it meets the administrative requirements in this announcement. Applications that do not meet the requirements of this announcement or are incomplete will not receive further evaluation.

Second, a review panel will consider the merits of all applications that meet the requirements in the announcement. The evaluation of each application will be conducted by a panel of not less than three independent reviewers. Reviewers will be drawn from USDA, other federal agencies, and others representing public and private organizations, as needed. The narrative and any appendixes provided by each applicant will be used by the review panel to evaluate the merits of the project that is being proposed for funding. The panel will examine and score applications based on the “Evaluation Criteria and Weights” contained in paragraph B of this part.

Applications will be evaluated and scored in each of the four criteria listed below. The panel will be looking for the specific elements listed with each criterion when evaluating the applications and scoring them. For each application, panel members will assign a point value up to the maximum for each criterion. After all reviewers have evaluated and scored each of the applications, the scores for the entire panel will be averaged to determine an application's final score.

After assigning points upon those criteria, applications will be listed in initial rank order and presented, along with funding level recommendations, to the Manager of FCIC, who will make the final decision on awarding of a partnership agreement. Applications will then be funded in final rank order until all available funds have been expended. Applicants must score 50 points or more during the first round to be considered for funding. Unused remaining funds from the first round of competition will be allocated to the second round of competition. Unless the applicant withdraws their proposal, eligible, but unfunded, proposals from the first competition will be considered in the second competition.

An organization, or group of organizations in partnership, may apply for funding under other FCIC or RMA programs, in addition to the programs described in this announcement. However, if the Manager of FCIC determines that an application recommended for funding under this announcement is sufficiently similar to a project that has been funded or has been recommended to be funded under another FCIC or RMA education or outreach program, then the Manager may elect to not fund that application in whole or in part.

B. Evaluation Criteria and Weights

Applications will be evaluated according to the following criteria:

1. Project Management—Maximum 20 Points

The applicant must demonstrate an ability to implement sound and effective project management practices. Higher scores will be awarded to applicants that can demonstrate organizational skills, leadership, and experience in delivering services or programs that assist women, limited resource, socially disadvantaged and other traditionally underserved producers. If the applicant has been a recipient of other Federal or other government grants, cooperative agreements, or contracts, the applicant must also detail that they have consistently complied with financial and program reporting and auditing requirements. Applicants that will employ, or have access to, personnel who have experience in directing agricultural programs or providing educations programs that benefit producers will receive higher rankings.

2. Collaborative Partnering—Maximum 20 Points

The applicant must demonstrate experience and capacity to partner with and gain the support of other agencies, grower organizations, agribusiness professionals, and agricultural leaders to enhance the quality and effectiveness of the program. Applicants will receive higher scores to the extent that they can document, with letters of commitment, and demonstrate: (a) That partnership commitments are in place for the express purpose of delivering the program in this announcement; (b) that a broad and diverse group of farmers and ranchers will be reached; and (c) that a substantial effort has been made to partner with organizations that can meet the needs of producers that are small, have limited resources, are minorities, or are beginning farmers and ranchers.

3. Delivery Plan—Maximum 30 Points

The applicant must demonstrate that its program delivery plan is clear and specific. For each of the applicant's responsibilities contained in the description of the program, the applicant must demonstrate that it can identify specific tasks and provide reasonable time lines that further the purpose of this program. Applicants will obtain a higher score to the extent that the tasks of the project are specific, measurable, and reasonable, have specific time frames for completion, and relate directly to the required activities and program objectives described in this announcement. For guidance on a delivery plan format, applicants are encouraged to refer to the table in the appendix of this notice.

4. Project Benefits—Maximum 30 Points

The applicant must demonstrate that the project benefits to women, limited resource, socially disadvantaged and other traditionally underserved producers warrant the funding requested. Applicants will be scored according to the extent they can: (a) Reasonably estimate the number of producers reached through the project; (b) justify the estimates with clear specifics related to the delivery plan; (c) identify the actions producers will likely be able to take as a result of the project; and (d) identify specific measures for evaluating the success of the project. Reviewers' scoring will be based on the scope and reasonableness of the applicants' estimates of producers reached through the project, clear descriptions of specific expected project benefits for producers, and well-constructed plans for measuring the project's effectiveness.

5. Diversity—Maximum 20 Points

Applicant must identify the geographic areas and target audience to be served. After applications have been evaluated and awarded points under the first four criteria, management may assess diversity points to promote the broadest geographic diversity.

Part VI—Award Administration

A. Notification of Cooperative or Partnership Agreement Awards

Following approval by the RMA awarding official, project leaders whose applications have been selected for funding will be notified. Within the limit of funds available for such a purpose, the awarding official of RMA shall enter into partnership or cooperative agreements with those applicants whose applications are judged to be most meritorious under the procedures set forth in this announcement. The agreements provide the amount of Federal funds for use in the project period, the terms and conditions of the award, and the time period for the project.

The effective date of the agreement shall be on the date the agreement is executed by both parties and it shall remain in effect for up to one year. RMA will then extend to award recipients, in writing, the authority to draw down funds for the purpose of conducting the activities listed in the agreement. All funds provided to the applicant by FCIC must be expended solely for the purpose for which the funds are obligated in accordance with the approved agreement and budget, the regulations, the terms and conditions of the award, and the applicability of Federal cost principles. No commitment of Federal assistance beyond the project period is made or implied for any award resulting from this notice.

Notification of denial of funding will be sent to applicants after final funding decisions have been made. Reasons for denial of funding can include incomplete proposals, scored low or were duplicative. Applicants that are not funded will be notified within 90 days after the receipt of applications.

B. Access to Panel Review Information

Upon written request from the applicant, scores from the evaluation panel, not including the identity of reviewers, will be sent to the applicant after the review and awards process has been completed.

C. Confidential Aspects of Proposals and Awards

When an application results in a partnership agreement, it becomes a part of the official record of RMA transactions, available to the public upon specific request. Information that the Secretary of Agriculture determines to be of a confidential, privileged, or proprietary nature will be held in confidence to the extent permitted by law. Therefore, any information that the applicant wishes to be considered confidential, privileged, or proprietary should be clearly marked within an application, including the basis for such designation. The original copy of a proposal that does not result in an award will be retained by RMA for a period of one year. Other copies will be destroyed. Copies of proposals not receiving awards will be released only with the express written consent of the applicant or to the extent required by law. A proposal may be withdrawn at any time prior to award.

D. Reporting Requirements

Applicants awarded partnership agreements will be required to submit quarterly progress and financial reports (OMB Standard Form 269) throughout the project period, as well as a final program and financial report not later than 90 days after the end of the project period.

E. Audit Requirements

Applicants awarded partnership or cooperative agreements are subject to audit.

F. Prohibitions and Requirements With Regard to Lobbying

Section 1352 of Public Law 101-121, enacted on October 23, 1989, imposes prohibitions and requirements for disclosure and certification related to lobbying on recipients of Federal contracts, grants, cooperative agreements, and loans. It provides exemptions for Indian Tribes and tribal organizations. Current and prospective recipients, and any subcontractors, are prohibited from using Federal funds, other than profits from a Federal contract, for lobbying Congress or any Federal agency in connection with the award of a contract, grant, cooperative agreement, or loan. In addition, for each award action in excess of $100,000 ($150,000 for loans) the law requires recipients and any subcontractors: (1) To certify that they have neither used nor will use any appropriated funds for payment of lobbyists; (2) to disclose the name, address, payment details, and purpose of any agreements with lobbyists whom recipients of their subcontractors will pay with profits or other non appropriated funds on or after December 22, 1989; and (3) to file quarterly up-dates about the use of lobbyists if material changes occur in their use. The law establishes civil penalties for non-compliance. A copy of the certification and disclosure forms must be submitted with the application and are available from Marie Buchanan at the above stated address and telephone number.

G. Applicable OMB Circulars

All partnership and cooperative agreements funded as a result of this notice will be subject to the requirements contained in all applicable OMB circulars.

H. Confidentiality

The names of applicants, the names of individuals identified in the applications, the content of applications, and the panel evaluations of applications will all be kept confidential, except to those involved in the review process, to the extent permitted by law. In addition, the identities of review panel members will remain confidential throughout the entire review process and will not be released to applicants. At the end of the fiscal year, names of panel members will be made available. However, panelists will not be identified with the review of any particular application.

I. Requirement To Participate in Civil Rights training

All recipients of federally assisted programs are required to comply with Federal civil rights laws and regulations. USDA/RMA policies and procedures requires recipients of federally assistant programs to attend mandatory civil rights training, sponsored by RMA, to become fully aware of civil rights requirements and responsibilities. Applicants should include in their budgets reasonable travel costs associated with attending a two day Project Directors meeting which will include civil rights training.

Part VII—Additional Information

A. Requirement To Use Program Logo

Applicants awarded partnership agreements will be required to use a program logo and design provided by RMA for all instructional and promotional materials.

B. Requirement To Provide Project Information to an RMA-Selected Contractor

Applicants awarded partnership agreements will be required to assist RMA in evaluating the effectiveness of its education programs by providing documentation of educational activities and related information to any contractor selected by RMA for program evaluation purposes. This requirement also includes providing demographic data on program participants.

C. Private Crop Insurance Organizations and Potential Conflicts of Interest

Private organizations that are involved in the sale of Federal crop insurance, or that have financial ties to such organizations, are eligible to apply for funding under either of the two educational programs described in this announcement. However, such entities will not be allowed to receive funding to conduct activities that would otherwise be required under a Standard Reinsurance Agreement or any other agreement in effect between FCIC and the entity. Such entities will also not be allowed the receive funding to conduct activities that could be perceived by producers as promoting one company's services or products over another's. If applying for funding, such organizations are encouraged to be sensitive to potential conflicts of interest and to describe in their application the specific actions they will take to avoid actual and perceived conflicts of interest.

D. Required Registration for Electronic Submission of Proposals

The Central Contract Registry (CCR) is a database that serves as the primary Government repository for contractor information required for the conduct of business with the Government. This database will also be used as a central location for maintaining organizational information for organizations seeking and receiving grants from the Government. Such organizations must register in the CCR prior to the submission of applications via grants.gov (a DUNS number is needed for CCR registration). For information about how to register in the CCR visit “Get Started” in the Web site, http://www.grants.gov. Allow a minimum of 5 days to complete the CCR registration.

E. A Dun and Bradstreet (D&B) Data Universal Numbering System (DUNS)

A DUNS number is a unique nine-digit sequence recognized as the universal standard for identifying and keeping track of over 70 million businesses worldwide. A Federal Register notice of final policy issuance (68 FR 38402) requires a DUNS number in every application (i.e., hard copy and electronic) for a grant or cooperative agreement. Therefore, potential applicants should verify that they have a DUNS number or take the steps needed to obtain one. For information about how to obtain a DUNS number go to http://www.grants.gov. Please note that the registration may take up to 14 business days to complete.

Dated: May 19, 2004.
Ross J. Davidson, Jr.,
Manager, Federal Crop Insurance Corporation.

[FR Doc. 04-11616 Filed 5-21-04; 8:45 am]

BILLING CODE 3410-08-P